DEPARTMENT OF HEALTH AND HUMAN SERVICES

National Institutes of Health

Submission for OMB Review; Comment Request; Career Survey of Biomedical Researchers Receiving Loan Repayment Benefits

SUMMARY: Under the provisions of Section 3507(a)(1)(D) of the Paperwork Reduction Act of 1995, the Loan of Loan Repayment and Scholarship (OLRS), National Institutes of Health (NIH) has submitted to the Office of Management and Budget (OMB) a request to review and approve the information collection listed below. This proposed information collection was previously published in the Federal Register on July 17, 2002, pages 46994-46995, and allowed 60 days for public comment. No public comments were received. The purpose of this notice is to allow an additional 30 days for public comment. The NIH may not conduct or sponsor, and the respondent is not required to respond to, an information collection that has been extended, revised, or implemented on or after October 1, 1995 unless it displays a currently valid OMB control number.

Proposed Collection

Title: Career Survey of Biomedical Researchers.

Type of Information Collection Request: NEW.

Need and Use of Information Collection: This survey is part of a comprehensive evaluation of the National Institutes of Health (NIH) Loan Repayment Program (LRP), the purpose of which is to evaluate the success of the LRP in raising the probability that a qualified scientist will stay in the intramural research program and pursue a long-term career as a biomedical researcher. The survey will document the actual career outcomes of current and former LRP participants and comparable non-participants. Such information will be used to gauge whether the program is meeting the expectations of program managers and how the program could be improved in the future. It will be used to address the outcome and impact study questions related to short and long-term retention, both at NIH and in research generally.

In addition to informing OLRS about the effectiveness of the program, the results of the LRP evaluation will become the basis for recommendations on how the program could be modified to improve outcomes. Indeed, some of the findings may be useful to the Office of the Director in terms of human resources policy and NIH policy generally. Also, the information collection will help our nation's leaders in setting policies to ensure a solid infrastructure for biomedical research. Encouraging the nation's brightest minds to pursue careers in biomedical research, both in public service such as NIH and in private laboratories, is critical to this effort.

Frequency of Responses: One time data collection.

Affected Public: Individuals.

Type of Respondents: Current and former NIH biomedical researchers. The annualized cost to respondents is estimated at $11,110. There are no Capital Costs, and/or Maintenance Costs to report. The annual reporting burden is as follows:

Type of respondent | Number of respondents | Response per respondent | Hours per response | Total burden hours
LRP Program Participant | 300 | 1 | .33 | 99
Comparison Group | 450 | 1 | .33 | 149
Total | 750 | 1 | .33 | 248

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, shall be directed to the: Office of Management and Budget, Office of Regulatory Affairs, New Executive Office Building, Room 10235, Washington, DC 20503, Attention: Desk Officer for NIH. To request more information on the proposed project or to obtain a copy of the data collection plans and instruments, contact: Marc S. Horowitz, J.D., Office of Loan Repayment and Scholarship, National Institutes of Health, 6011 Executive Boulevard, Room 206, Bethesda, Maryland, 20892 or call non-toll-free number 301-402-5666 or e-mail your request, including your address, to lrp@nih.gov or access the Loan Repayment Programs on the Internet at http://www.lrp.nih.gov.

Comments Due Date: Comments regarding this information collection are best assured of having their full effect if received within 30 days of the date of this publication.

Dated: January 28, 2004.
Raynard S. Kington,
Deputy Director, National Institutes of Health.

[FR Doc. 04-2212 Filed 2-3-04; 8:45 am]

BILLING CODE 4140-01-M